DEPARTMENT OF TRANSPORTATION

Office of the Secretary

Application of Glenwood Aviation, LLC d/b/a America Rising for Certificate Authority

AGENCY: Department of Transportation.

ACTION: Notice of Order to Show Cause (Order 2003-2-8), Docket OST-02-13365.

SUMMARY: The Department of Transportation is directing all interested persons to show cause why it should not issue an order finding Glenwood Aviation, LLC d/b/a America Rising, fit, willing, and able, and awarding it a certificate of public convenience and necessity to engage in interstate scheduled air transportation of persons, property and mail using small aircraft under part 135 of the Federal Aviation Regulations.

DATES: Persons wishing to file objections should do so no later than February 21, 2003.

ADDRESSES: Objections and answers to objections should be filed in Docket OST-02-13365 and addressed to the Department of Transportation Dockets (OST-M-30, Room PL-401), U.S. Department of Transportation, 400 Seventh Street, SW., Washington, DC 20590, and should be served upon the parties listed in Attachment A to the order.

FOR FURTHER INFORMATION CONTACT: Mr. Howard Serig, Air Carrier Fitness Division (X-56, Room 6401), U.S. Department of Transportation, 400 Seventh Street, SW., Washington, DC 20590, (202) 366-4822.

Dated: February 7, 2003.
Susan McDermott,
Deputy Assistant Secretary for Aviation and International Affairs.

[FR Doc. 03-3734 Filed 2-13-03; 8:45 am]

BILLING CODE 4910-62-P